FEDERAL MARITIME COMMISSION

Ocean Transportation Intermediary License Reissuances

Notice is hereby given that the following Ocean Transportation Intermediary licenses have been reissued by the Federal Maritime Commission pursuant to section 19 of the Shipping Act of 1984(46 U.S.C. Chapter 409) and the regulations of the Commission pertaining to the licensing of Ocean Transportation Intermediaries, 46 CFR part 515.

License No. | Name/address | Date reissued
004474F | Logistics Transportation Services, Inc. 23171 Mills Road Porter, TX 77365 | September 29, 2009.
020125N | 132 Vermilyea Corp. dba Agustin Cargo Express 225 Bruckner Blvd. Bronx, NY 10454 | September 17, 2009.

Sandra L. Kusumoto,
Director, Bureau of Certification and Licensing.

[FR Doc. E9-26552 Filed 11-3-09; 8:45 am]

BILLING CODE P